DEPARTMENT OF TRANSPORTATION

Federal Aviation Administration

14 CFR Part 39

[Docket No. FAA-2014-0657; Directorate Identifier 2014-NM-058-AD]

RIN 2120-AA64

Airworthiness Directives; Dassault Aviation Airplanes

AGENCY: Federal Aviation Administration (FAA), DOT.

ACTION: Notice of proposed rulemaking (NPRM).

SUMMARY: We propose to adopt a new airworthiness directive (AD) for certain Dassault Aviation Model FALCON 2000, FALCON 2000EX, MYSTERE-FALCON 900, and FALCON 900EX airplanes. This proposed AD was prompted by reports of a co-pilot sliding aft on his seat during take-off at rotation. This proposed AD would require replacement of certain springs installed on the pilot and co-pilot seats. We are proposing this AD to prevent fatigue wear, which, if not corrected, could cause the seat to slide and the pilot or co-pilot to lose contact with the controls, leading to an inadvertent input on the flight control commands during take-off or climb, possibly resulting in loss of control of the airplane.

DATES: We must receive comments on this proposed AD by January 2, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Dassault Falcon Jet, P.O. Box 2000, South Hackensack, NJ 07606; telephone 201-440-6700; Internet http://www.dassaultfalcon.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0657; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, Washington WA 98057-3356; telephone (425) 227-1137; fax (425) 227-1149.

SUPPLEMENTARY INFORMATION:

Comments Invited

We invite you to send any written relevant data, views, or arguments about this proposed AD. Send your comments to an address listed under the ADDRESSES section. Include “Docket No. FAA-2014-0657; Directorate Identifier 2014-NM-058-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2014-0061, dated March 11, 2014 (referred to after this as the Mandatory Continuing Airworthiness Information, or “the MCAI”), to correct an unsafe condition for certain Dassault Aviation Model FALCON 2000, FALCON 2000EX, MYSTERE-FALCON 900, and FALCON 900EX airplanes. The MCAI states:

During take-off at rotation, a co-pilot reported to slide aft on his seat.

The results of the investigations concluded that one spring of the seat locking system was broken and the other was weak. The root cause was determined to be fatigue wear. As springs accumulate cycles in service, they become increasingly exposed to the risk of unnoticed degradation or rupture.

This condition, if not corrected, could cause the pilot or the co-pilot to lose contact with the controls, leading to an inadvertent input on the flight control commands during take-off or climb, possibly resulting in loss of control of the aeroplane.

To address this unsafe condition, it was decided to require replacement of the affected seat springs for older aeroplanes and for newer aeroplanes; this task has been embodied in the aeroplane maintenance manual.

For the reasons described above, this [EASA] AD requires replacement of the springs installed on the pilot and co-pilot seats with serviceable springs.

You may examine the MCAI in the AD docket on the Internet at http://www.regulations.gov by searching for and locating Docket No. FAA-2014-0657.

Relevant Service Information

Dassault Aviation has issued the following service bulletins. The actions described in this service information are intended to correct the unsafe condition identified in the MCAI.

• Dassault Service Bulletin F900-429, Revision 1, also referred to as 429-R1, dated July 13, 2012.

• Dassault Service Bulletin F900EX-446, Revision 1, also referred to as 446-R1, dated July 13, 2012.

• Dassault Service Bulletin F2000-401, Revision 1, also referred to as 401-R1, dated July 13, 2012.

• Dassault Service Bulletin F2000EX-267, Revision 1, also referred to as 267-R1, dated July 13, 2012.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Differences Between This Proposed AD and the MCAI or Service Information

Although the MCAI does not require repetitive replacement of the pilot seat springs, this AD requires repetitive replacement of the pilot seat springs at intervals not to exceed 78 months or 3,750 flight cycles, whichever occurs first. This difference has been coordinated with EASA. Also, we have been advised that EASA plans to revise the MCAI.

Costs of Compliance

We estimate that this proposed AD affects 528 airplanes of U.S. registry.

We also estimate that it would take about 2 work-hours per product to comply with the basic requirements of this proposed AD. The average labor rate is $85 per work-hour. Required parts would cost about $83 per product. Based on these figures, we estimate the cost of this proposed AD on U.S. operators to be $133,584, or $253 per product.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by adding the following new airworthiness directive (AD):

Dassault Aviation: Docket No. FAA-2014-0657; Directorate Identifier 2014-NM-058-AD.

(a) Comments Due Date

We must receive comments by January 2, 2015.

(b) Affected ADs

None.

(c) Applicability

This AD applies to the airplanes identified in paragraphs (c)(1), (c)(2), (c)(3), and (c)(4) of this AD, certificated in any category, equipped with SICMA 132-series or 142-series pilot and co-pilot seats.

(1) Dassault Aviation Model FALCON 2000 airplanes

(2) Dassault Aviation Model FALCON 2000EX airplanes

(3) Dassault Aviation Model MYSTERE-FALCON 900 airplanes

(4) Dassault Aviation Model FALCON 900EX airplanes

(d) Subject

Air Transport Association (ATA) of America Code 25, Equipment/Furnishings.

(e) Reason

This AD was prompted by reports of a co-pilot sliding aft on his seat during take-off at rotation. We are issuing this AD to prevent fatigue wear, which, if not corrected, could cause the seat to slide and the pilot or co-pilot to lose contact with the controls, leading to an inadvertent input on the flight control commands during take-off or climb, possibly resulting in loss of control of the airplane.

(f) Compliance

Comply with this AD within the compliance times specified, unless already done.

(g) Replacement

For airplanes that have accumulated more than 3,750 total flight cycles or have exceeded 74 months since the airplane's first flight as of the effective date of this AD. Within 9 months after the effective date of this AD, replace each spring having part number (P/N) 132100-19 and P/N 147100-19 installed on the pilot and co-pilot seats with a spring as specified in, and in accordance with, the Accomplishment Instructions of the service information identified in paragraph (g)(1), (g)(2), (g)(3), or (g)(4) of this AD, as applicable. Repeat the replacement thereafter at intervals not to exceed 78 months or 3,750 flight cycles, whichever occurs first.

(1) Dassault Service Bulletin F900-429, Revision 1, also referred to as 429-R1, dated July 13, 2012.

(2) Dassault Service Bulletin F900EX-446, Revision 1, also referred to as 446-R1, dated July 13, 2012.

(3) Dassault Service Bulletin F2000-401, Revision 1, also referred to as 401-R1, dated July 13, 2012.

(4) Dassault Service Bulletin F2000EX-267, Revision 1, also referred to as 267-R1, dated July 13, 2012.

(h) Parts Installation Limitation

As of the effective date of this AD, installation of a spring having P/N 147100-19 on any airplane is allowed, provided that the spring is new.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Dassault Aviation's EASA Design Organization Approval (DOA). If approved by the DOA, the approval must include the DOA-authorized signature.

(j) Related Information

(1) Refer to Mandatory Continuing Airworthiness Information (MCAI) European Aviation Safety Agency Airworthiness Directive 2014-0061, dated March 11, 2014, for related information. This MCAI may be found in the AD docket on the Internet at http://www.regulations.gov by searching for and locating Docket No. FAA-2014-0657.

(2) For service information identified in this AD, contact Dassault Falcon Jet, P.O. Box 2000, South Hackensack, NJ 07606; telephone 201-440-6700; Internet http://www.dassaultfalcon.com. You may view this service information at the FAA, Transport Airplane Directorate, 1601 Lind Avenue SW., Renton, WA. For information on the availability of this material at the FAA, call 425-227-1221.

Issued in Renton, Washington, on November 5, 2014.
Jeffrey E. Duven,
Manager, Transport Airplane Directorate, Aircraft Certification Service.

[FR Doc. 2014-27068 Filed 11-14-14; 8:45 am]

BILLING CODE 4910-13-P